DEPARTMENT OF HOUSING AND URBAN DEVELOPMENT

[Docket No. FR-5683-N-80]

30-Day Notice of Proposed Information Collection: Section 8 Management Assessment Program (SEMAP) Certification

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: September 26, 2013.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on June 11, 2013.

A. Overview of Information Collection

Title of Information Collection: Section 8 Management Assessment Program (SEMAP) Certification.

OMB Approval Number: 2577-0215.

Type of Request: Extension without of a currently approved collection.

Form Number: HUD-52648.

Description of the need for the information and proposed use: Program regulations at 24 CFR Part 985 set forth the requirements of the SEMAP that include a certification of Indicators reflecting performance. Through this assessment, HUD can improve oversight of the Housing Choice Voucher program and target monitoring and assistance to public housing agencies (PHA) that need the most improvement and pose the greatest risk. PHAs designated as troubled must implement corrective action plans for improvements.

Information collection | Number of respondents | Frequency of response | Responses per annum | Burden hour per response | Annual burden hours | Annual cost
SEMAP Certification | 2,302 | 1 | 2,302 | 12 | 27,624 |
Corrective Action Plan | 80 | 1 | 100 | 10 | 800 |
Report on Correction of SEMAP Deficiency | 575 | 1 | 575 | 2 | 1,150 |
Total Estimated Annual Burden Hours |  |  |  |  |  | $29,574

B. Solicitation of Public Comment

This notice is soliciting comments from members of the public and affected parties concerning the collection of information described in Section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses. HUD encourages interested parties to submit comment in response to these questions.

Authority Section 3507 of the Paperwork Reduction Act of 1995, 44 U.S.C. Chapter 35.

Dated: August 21, 2013.
Colette Pollard,
Department Reports Management Officer, Office of the Chief Information Officer.

[FR Doc. 2013-20835 Filed 8-26-13; 8:45 am]

BILLING CODE 4210-67-P